DEPARTMENT OF DEFENSE

Office of the Secretary

Meeting of the Advisory Council on Dependents' Education

AGENCY: Department of Defense Education Activity (DoDEA).

ACTION: Notice of meeting.

SUMMARY: Pursuant to Public Law 92-463, notice is hereby given that a meeting of the Advisory Council on Dependents' Education (ACDE) is scheduled to be held from 8 a.m. to 5 p.m. on Saturday, October 7, 2000. The meeting will be open to the public and will be held in the Constellation Room at U.S. Navy Europe's headquarters on North Audley Street in London, England. The meeting will be preceded by visits by ACDE members and DoDEA representatives to DoD overseas schools in Iceland, the United Kingdom, Belgium, and Netherlands from October 2-4. The purpose of the Council is to recommend to the Director, Department of Defense Dependents Schools (DoDDS), general policies for the operation of the DoDDS; to provide the Director with information about effective educational programs and practices that should be considered by DoDDS; and to perform other tasks as may be required by the Secretary of Defense. The focus of this meeting will be on student achievement and progress towards organizational strategic goals. For further information contact Ms. Polly Purser, at 703-696-4235, extension 1911.

Dated: September 18, 2000.
L.M. Bynum,
Alternate OSD Federal Register Liaison Officer, Department of Defense.

[FR Doc. 00-24330 Filed 9-21-00; 8:45 am]

BILLING CODE 5001-10-M